DEPARTMENT OF TRANSPORTATION

Federal Transit Administration

Transfer of Federally Assisted Land or Facility

AGENCY: Federal Transit Administration, DOT.

ACTION: Notice of intent to transfer Federally assisted land or facility.

SUMMARY: Section 5334(g) of the Federal Transit Laws, as codified, 49 U.S.C. 5301, et. seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal agencies that the Metropolitan Council intends to transfer a parcel of property to the City of Minneapolis for the Public Housing Agency to build five public housing units. Metropolitan Council currently owns the land. The property consists of approximately 18,144 square feet of land. The property is paved with no structures on it and is located in a residential area of Minneapolis, MN.

EFFECTIVE DATE: Any Federal agency interested in acquiring the facility must notify the FTA Regional V Office of its interest by June 7, 2004.

ADDRESSES: Interested parties should notify the Regional Office by writing to Joel P. Ettinger, Regional Administrator, Federal Transit Administration, 200 West Adams, Suite 320, Chicago, IL 60606.

FOR FURTHER INFORMATION CONTACT: Donald Gismondi, Deputy Regional Administrator at 312/353-2789.

SUPPLEMENTARY INFORMATION:

Background

49 U.S.C. 5334(g) provides guidance on the transfer of capital assets. Specifically, if a recipient of FTA assistance decides an asset acquired under this chapter at least in part with that assistance is no longer needed for the purpose for which it was acquired, the Secretary of Transportation may authorize the recipient to transfer the asset to a local governmental authority to be used for a public purpose with no further obligation to the Government. 49 U.S.C. 5334(g)(1)

Determinations:

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. 5334(g)(1)(D) of the Federal Transit Laws. Accordingly, FTA hereby provides notice of the availability of the land or facility further described below. Any Federal agency interested in acquiring the affected facilities should promptly notify the FTA.

If no Federal agency is interested in acquiring the existing facility, FTA will make certain that the other requirements specified in 49 U.S.C. 5334(g)(1)(A) through (C) are met before permitting the asset to be transferred.

Additional Description of Facility

The property is approximately 18,144 square feet of land. The property is paved with no structures on it. The property is currently being used for parking by area businesses. The property is subject to a covenant running with the land that the property owner will not discriminate against any person on account of race, color or national origin in connection with the use, sale or transfer of the land. The property is located in a residential area of Minneapolis, MN. The street address is: 3824 West 44th Street, Minneapolis, MN.

Issued on: April 26, 2004.
Donald Gismondi,
Deputy Regional Administrator.

[FR Doc. 04-10357 Filed 5-5-04; 8:45 am]

BILLING CODE 4910-57-M